DEPARTMENT OF AGRICULTURE

Submission for OMB Review; Comments Requested; Correction

March 29, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by May 3, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Reporting and Recordkeeping Requirements (United States Grain Standards Act and Agricultural Marketing Act of 1946).

OMB Control Number: 0580-0309.

Summary of Collection: The agency published a 30 Day FRN on 29 March 2021 for the Reporting and Recordkeeping Requirements (United States Grain Standards Act and Agricultural Marketing Act of 1946). The OMB control number was incorrect 0580-0309 and should be 0581-0309.

Levi S. Harrell,
Departmental Information Collection Clearance Officer.

[FR Doc. 2021-06763 Filed 4-1-21; 8:45 am]

BILLING CODE 3410-02-P